DEPARTMENT OF TRANSPORTATION

Transportation Security Administration

49 CFR Part 1510

[Docket No. TSA-2001-11120]

RIN 2110-AA01

Imposition and Collection of Passenger Civil Aviation Security Service Fees; Amendment; Reopening of Comment Period.

AGENCY: Transportation Security Administration, DOT.

ACTION: Interim final rule; amendment; reopening of comment period.

SUMMARY: On December 31, 2001, the Transportation Security Administration (TSA) published an interim final rule on the imposition and collection of Passenger Civil Aviation Security Service Fees (September 11th Security Fees). The comment period closed on March 1, 2002. Since that time, however, TSA has tentatively determined that some of the data direct air carriers and foreign air carriers are required to submit in the quarterly reports pursuant to § 1510.17 of the interim final rule may be overinclusive. This action amends the requirements under § 1510.17(b) and (c) and reopens the comment period solely with respect to those paragraphs until April 30, 2002. So that TSA may review and consider all comments received on this action, the first quarterly report due by April 30, 2002, need not be submitted until July 31, 2002, i.e., the same date the second quarterly report is due. TSA intends to provide a form for the data required in the quarterly reports and will publish the form together with guidance in the Federal Register and on DOT's Web site prior to July 31, 2002.

DATES: This amendment to the interim final rule is effective on March 28, 2002. Comments only with respect to this action, which amends the reporting requirements under § 1510.17 of the interim final rule, will be accepted through April 30, 2002.

ADDRESSES: Submit written, signed comments only with respect to this action to TSA Docket No. 2001-11120, the Docket Clerk, U.S. DOT Dockets, Room PL-401, 400 Seventh Street, SW., Washington, DC 20590-0001. All comments received will be available for examination at the above address between 9 a.m. and 5 p.m., e.t., Monday through Friday, except Federal holidays. Those desiring notification of receipt of comments must include a self-addressed, stamped envelope or postcard on which the following statement is made: “Comments to Docket No. TSA-2001-11120.” The post card will be date stamped and mailed to the sender. Comments also may be sent electronically to the Dockets Management System (DMS) at: http://dms.dot.gov at any time. Those who wish to file comments electronically should follow the instructions on the DMS Web site.

FOR FURTHER INFORMATION CONTACT: For guidance involving technical matters: A. Thomas Park, Acting Deputy Chief Financial Officer, Department of Transportation, Office of the Secretary, Office of the Assistant Secretary for Budget and Programs, 400 Seventh St., SW., Room 10101, Washington, DC 20590; telephone (202) 366-9192. For other guidance: Rita M. Maristch, Department of Transportation, Office of the General Counsel, Office of Environmental, Civil Rights and General Law, 400 Seventh St., SW., Room 10102, Washington, DC 20590; telephone (202) 366-9161. Office hours are from 9 a.m. to 5:30 p.m., e.t. Monday through Friday, except Federal holidays.

SUPPLEMENTARY INFORMATION:

Availability of the Interim Final Rule and Comments Received

An electronic copy of this document may be downloaded using a modem and suitable communications software from the Government Printing Office's Electronic Bulletin Boards Service at (202) 512-1661. Internet users may reach the Federal Register's Home Page at: http://www.nara.gov/fedreg and the Government Printing Office's database at: http://www.access.gpo.gov.

Internet users can access this document and all comments received by TSA through DOT's docket management system Web site, http://dms.dot.gov. It is available 24 hours each day, 365 days each year. Please follow the instructions online for more information and help.

Small Entity Inquiries

The Small Business Regulatory Enforcement Fairness Act (SBREFA) of 1996 requires TSA to comply with small entity requests for information and advice about compliance with statutes and regulations within TSA's jurisdiction. However, because TSA was established on November 19, 2001, pursuant to Aviation and Transportation Security Act, Public Law 107-71, it does not yet have the infrastructure or personnel to provide such information and guidance. Until such time that it does, the Office of the Secretary of Transportation will handle all SBREFA inquiries. Accordingly, any small entity that has a question regarding this document may contact the individuals listed under the caption FOR FURTHER INFORMATION CONTACT.

Background

On December 31, 2001, TSA published an interim final rule that imposes a $2.50 fee on each air carrier passenger enplanement in order to help pay for the Federal government's costs in providing aviation security services. See 66 FR 67698 (to be codified at 49 CFR part 1510). Passengers may not be charged for more than two enplanements per one-way trip or more than four enplanements per round trip. The fee, commonly referred to as the September 11th Security Fee, was authorized in the landmark Aviation and Transportation Security Act, which was signed into law by President Bush on November 19, 2001. Public Law 107-71. The September 11th Security Fees will help pay for passenger and baggage screeners, security managers and law enforcement personnel at airports, and other aviation security efforts, such as the purchase of explosive detection systems.

According to the interim final rule, direct air carriers, both domestic and foreign, were required to begin collecting the September 11th Security Fee for enplanements originating from U.S. airports beginning February 1, 2002, and transmitting them to DOT's newly established TSA. In addition, the interim final rule at § 1510.17 requires direct air carriers and foreign air carriers to submit quarterly reports to TSA. More specifically, § 1510.17(b) requires that the quarterly reports state the direct air carrier or foreign air carrier involved, the total security service fee imposed, collected, refunded and remitted, the number of enplanements for which a fee was collected, the total number of frequent flyer and nonrevenue passengers, and the total number of enplanements for which the fee was not collected. The reports must explain why any fee imposed under 49 CFR part 1510 was not collected.

Since the publication of the interim final rule, TSA has had an opportunity to review the data to be included in the quarterly report and tentatively believes that some of the data may be overinclusive. Based on its review, TSA believes that the following data would provide the necessary information it seeks and therefore amends § 1510.17(b) to require that all quarterly reports state: (1) The direct air carrier or foreign air carrier involved;

(2) The total amount of September 11th Security Fees imposed on passengers in U.S. currency for each month during the previous quarter of the calendar year;

(3) The net amount of September 11th Security Fees collected in U.S. currency by the direct air carrier or foreign air carrier for each month during the previous quarter of the calendar year;

(4) The total amount of September 11th Security Fees refunded in U.S. currency by the direct air carrier or foreign air carrier for each month during the previous quarter of the calendar year; and

(5) The total amount of September 11th Security Fees remitted in U.S. currency by the direct air carrier or foreign air carrier for each month during the previous quarter of the calendar year.

This interim final rule also amends § 1510.17(c) to reflect that direct air carriers and foreign air carriers must submit their reports to TSA on the last day of the calendar month following the quarter of the calendar year in which the fees were imposed.

TSA will consider public comment through April 30, 2002, solely with respect to § 1510.17(b) and (c), as amended. Given this fact, TSA has determined that the first quarterly report, which, according to the rule, is due by April 30, 2002, must now be submitted together with, or prior to, the second quarterly report for this calendar year, which is due by July 31, 2002. TSA intends to provide a form for the data required in the quarterly reports and will publish the form together with guidance in the Federal Register and on DOT's Web site prior to July 31, 2002.

Good Cause for Immediate Adoption

Section 44940(d)(1) of title 49, U.S.C., explicitly exempts the imposition of the civil aviation security service fees authorized in section 44940 from the procedural rulemaking notice and comment procedures set forth in 5 U.S.C. 553. Apart from that exemption, it would have been impractical and contrary to the public interest to provide for notice and comment before issuing the interim final rule on December 31, 2002. Immediate action was necessary to begin collecting the security service fees provided for by the statute. However, TSA sought comments on the interim final rule through March 1, 2002 and is in the process of reviewing those comments. In the meantime, TSA seeks comments on this action amending the reporting requirements under § 1510.17 through April 30, 2002, but will consider comments filed late to the extent practicable. TSA may further amend the interim final rule in light of the comments it receives.

Paperwork Reduction Act

On January 31, 2002, TSA published a notice in the Federal Register announcing that it had submitted a request for emergency processing of a public information collection to the Office of Management and Budget (OMB) regarding the quarterly reporting requirements in § 1510.17 of the interim final rule. On that same date, OMB approved the information collection contained in the interim final rule and assigned it OMB control number 2110-0001. This collection of information is approved through July 31, 2002. See 67 FR 7582, February 19, 2002. TSA has determined that this action, which amends § 1510.17 of the interim final rule, will reduce the collection of information burdens originally required by that section and approved by OMB. Therefore, it is not necessary for TSA to apply to OMB for additional emergency approval with respect to this action, but prior to July 31, 2002, TSA will apply for a three-year extension as well as approval of the information collection form it is developing. Interested parties are invited to send comments regarding any aspect of the information collection requirements, including, but not limited to: (1) Whether the collection of information is necessary for the performance of TSA, including whether the information has practical utility; (2) the accuracy of the estimated burden that DOT has provided to OMB; (3) ways to enhance the quality, utility, and clarity of the collection of information, and (4) ways to minimize the collection burden without reducing the quality of the information collected.

Economic Analyses

This rulemaking action is taken in an emergency situation within the meaning of Section 6(a)(3)(D) of Executive Order 12866, Regulatory Planning and Review. It also is considered an emergency regulation under Paragraph 11g of the Department's Regulatory Policies and Procedures. In addition, it is a significant rule within the meaning of the Executive Order and Department's policies and procedures because it may impose significant costs on air carriers and foreign air carriers. An assessment in accordance with the Executive Order will be conducted in the future. No additional regulatory analysis or evaluation accompanies this rule. TSA has not assessed whether this rule will have a significant economic impact on a substantial number of small entities as defined in the Regulatory Flexibility Act of 1980. When no notice of proposed rulemaking has first been published, the Regulatory Flexibility Act does not apply.

OMB has reviewed this rulemaking action under the provisions of section 6(a)(3)(D) Executive Order 12866.

Executive Order 13132, Federalism

TSA has analyzed this amendment to its interim final rule published on December 31, 2001, under the principles and criteria of Executive Order 13132, Federalism. TSA has determined that the interim final rule, as amended, will not have a substantial direct effect on the States, or the relationship between the national Government and the States, or on the distribution of power and responsibilities among the various levels of government. Therefore, TSA has determined that this rulemaking action does not have federalism implications.

Unfunded Mandates Reform Act

The Unfunded Mandates Reform Act of 1995 (the Act), enacted as Public Law 104-4 on March 22, 1995, is intended, among other things, to curb the practice of imposing unfunded Federal mandates on State, local, and tribal governments. Title II of the Act requires each Federal agency to prepare a written statement assessing the effects of any Federal mandate in a proposed or final agency rule that may result in a $100 million or more expenditure (adjusted annually for inflation) in any one year by State, local, and tribal governments, in the aggregate, or by the private sector.

The requirements of Title II of the Act do not apply when rulemaking actions are taken without the issuance of a notice of proposed rulemaking. Accordingly, the TSA has not prepared a statement under the Act.

Environmental Review

TSA has reviewed this action for purposes of the National Environmental Policy Act of 1969 (42 U.S.C. 4321-4347) and has determined that this action will not have a significant effect on the human environment.

Energy Impact

The energy impact of this rule has been assessed in accordance with the Energy Policy and Conservation Act (EPCA) Public Law 94-163, as amended. (42 U.S.C. 6362). It has been determined that this rule is not a major regulatory action under the provisions of the EPCA.

List of Subjects in 49 CFR Part 1510

Accounting, Auditing, Air carriers, Air transportation, Enforcement, Federal oversight, Foreign air carriers, Reporting and recordkeeping requirements, Security measures.

Issued in Washington, DC, on March 25, 2002.
John W. Magaw,
Under Secretary of Transportation for Security.

Accordingly, part 1510 of Title 49 CFR is amended as follows:

PART 1510—PASSENGER CIVIL AVIATION SECURITY SERVICE FEES

1. The authority citation for part 1510 continues to read as follows:

Authority: 49 U.S.C. 44940.

2. Paragraphs (b) and (c) of § 1510.17 are revised to read as follows:

§ 1510.17 Reporting requirements.

* * * * *

(b) Quarterly reports must state:

(1) The direct air carrier or foreign air carrier involved;

(2) The total amount of September 11th Security Fees imposed on passengers in U.S. currency for each month during the previous quarter of the calendar year;

(3) The net amount of September 11th Security Fees collected in U.S. currency by the direct air carrier or foreign air carrier for each month during the previous quarter of the calendar year;

(4) The total amount of September 11th Security Fees refunded in U.S. currency by the direct air carrier or foreign air carrier for each month during the previous quarter of the calendar year; and

(5) The total amount of September 11th Security Fees remitted in U.S. currency by the direct air carrier or foreign air carrier for each month during the previous quarter of the calendar year.

(c) The report must be filed by the last day of the calendar month following the quarter of the calendar year in which the fees were imposed.

[FR Doc. 02-7652 Filed 3-26-02; 2:29 pm]

BILLING CODE 4910-62-P